DEPARTMENT OF HEALTH AND HUMAN SERVICES

National Institutes of Health

National Center for Complementary & Alternative Medicine; Amended Notice of Meeting

Notice is hereby given of a change in the meeting of the National Center for Complementary and Alternative Medicine Special Emphasis Panel, October 25, 2007, 9 a.m. to October 26, 2007, 5 p.m. Bethesda Marriott, 5151 Pooks Hill Road, Bethesda, MD, 20814 which was published in the Federal Register on August 16, 2007, 7246093.

The meeting notice is being amended due to the meeting dates changing from October 25-26, 2007 to October 25, 2007. The meeting is closed to the public.

Dated: September 19, 2007.
Jennifer Spaeth,
Director, Office of Federal Advisory Committee Policy.

[FR Doc. 07-4811 Filed 9-28-07; 8:45 am]

BILLING CODE 4140-01-M